DEPARTMENT OF TRANSPORTATION

Maritime Administration

Agency Information Collection Activity Under OMB Review; Reports, Forms and Recordkeeping Requirements

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on April 17, 2013 and comments were due by June 17, 2013.

No comments were received.

DATES: Comments should be submitted on or before August 2, 2013.

FOR FURTHER INFORMATION CONTACT: Dr. Shashi Kumar, U.S. Merchant Marine Academy, Kings Point, NY 11024. Telephone: 516-726-5833; or E-Mail: kumars@usmma.edu. Copies of this collection also can be obtained from that office.

SUPPLEMENTARY INFORMATION: Maritime Administration (MARAD).

Title: United States Merchant Marine Academy (USMMA) Alumni Survey.

OMB Control Number: 2133-0542.

Type of Request: Extension of currently approved collection.

Affected Public: Graduates of the U.S. Merchant Marine Academy.

Form Numbers: KP2-66-DK1, KP2-67-DK2, KP3-68-DK3, KP2-69-ENG1, KP2-70-ENG2, KP2-71-ENG3.

Abstract: 46 U.S.C. 51309 authorizes the Academy to confer academic degrees. To maintain the appropriate academic standards, the program must be accredited by the appropriate accreditation body. The survey is part of USMMA's academic accreditation process.

Annual Estimated Burden Hours: 125 hours.

ADDRESSES: Send comments to the Office of Information and Regulatory Affairs, Office of Management and Budget, 725 17th Street NW., Washington, DC 20503, Attention: MARAD Desk Officer. Alternatively, comments may be sent via email to the Office of Information and Regulatory Affairs (OIRA), Office of Management and Budget, at the following address: oira.submissions@omb.eop.gov.

Comments Are Invited On: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology. A comment to OMB is best assured of having its full effect if OMB receives it within 30 days of publication.

Authority: 49 CFR 1.93.

Dated: June 25, 2013.
Julie P. Agarwal,
Secretary, Maritime Administration.

[FR Doc. 2013-15886 Filed 7-2-13; 8:45 am]

BILLING CODE 4910-81-P